DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before August 8, 2012. Address written comments to Statutory Import Programs Staff, Room 3720, U.S. Department of Commerce, Washington, DC 20230. Applications may be examined between 8:30 a.m. and 5:00 p.m. at the U.S. Department of Commerce in Room 3720.

Docket Number: 12-026. Applicant: University of Wisconsin-Madison, 21 N. Park St., Suite 6101, Madison, WI 53715-1218. Instrument: Electron Microscope. Manufacturer: FEI Company, the Netherlands. Intended Use: The instrument will be used to investigate biopolymers and biological materials such as viruses, and animal and plant cells. Justification for Duty-Free Entry: There are no instruments of the same general category manufactured in the United States. Application accepted by Commissioner of Customs: June 11, 2012.

Docket Number: 12-029. Applicant: University of Alabama at Birmingham, 1530 3rd Ave. South—BED 254 Birmingham, AL 35294-4461. Instrument: Electron Microscope. Manufacturer: FEI Company, Czech Republic. Intended Use: The instrument will be used to study the morphological features and chemical composition of metallic, ceramic, polymeric, composite and biological materials (human and animal tissue). Justification for Duty-Free Entry: There are no instruments of the same general category manufactured in the United States. Application accepted by Commissioner of Customs: June 11, 2012.

Docket Number: 12-030. Applicant: Ohio State University, 2041 College Rd., Columbus, OH 43210. Instrument: Electron Microscope. Manufacturer: FEI Company, the Netherlands. Intended Use: The instrument will be used to measure the morphology and orientation of grains and particles, as well as the structure, long and short range ordering, number and type of defects and the elemental composition of various phases in ceramics and metals including high-temperature superconductors, high-temperature metal alloys, evaporated metal films, silicon-germanium quantum dots, soils and geological materials, polymers and possibly some biological samples. Justification for Duty-Free Entry: There are no instruments of the same general category manufactured in the United States. Application accepted by Commissioner of Customs: June 4, 2012.

Docket Number: 12-032. Applicant: Louisiana State University, Department of Biological Sciences, 202 Life Sciences Building, Baton Rouge, LA 70803-1715. Instrument: Electron Microscope. Manufacturer: JEOL, Japan. Intended Use: The instrument will be used to examine the ultra-structure of cells and tissues from various model organisms such as Drosophila melanogaster (fruit fly), as well as fabricated nano-materials/polymers, rods made of bolaform amphiphile, and ionic liquids. Justification for Duty-Free Entry: There are no instruments of the same general category manufactured in the United States. Application accepted by Commissioner of Customs: June 20, 2012.

Dated: July 12, 2012.
Gregory W. Campbell,
Director of Subsidies Enforcement, Import Administration.

[FR Doc. 2012-17622 Filed 7-18-12; 8:45 am]

BILLING CODE 3510-DS-P